POSTAL SERVICE

Elimination of Parcel Return Service Product

AGENCY: Postal Service™.

ACTION: Notice.

SUMMARY: The Postal Service hereby provides notice that it has filed a request with the Postal Regulatory Commission to remove the Parcel Return Service product from the competitive product list.

DATES: The request was submitted to the Postal Regulatory Commission on August 12, 2022.

FOR FURTHER INFORMATION CONTACT: Elizabeth A. Reed at (202) 268-3179.

SUPPLEMENTARY INFORMATION: On August 12, 2022, the United States Postal Service filed with the Postal Regulatory Commission a USPS Request to Remove Parcel Return Service from the Competitive Product List pursuant to 39 U.S.C. 3642. Documents pertinent to this request are available at https://www.prc.gov, Docket No. MC2022-95. The Governors' Decision and the record of proceedings in connection with such decision are reprinted below in accordance with section 3632(b)(2).

Sarah Sullivan,
Attorney, Ethics and Legal Compliance.

BILLING CODE 7710-12-P

[FR Doc. 2022-17716 Filed 8-18-22; 8:45 am]

BILLING CODE 7710-12-C